DEPARTMENT OF TRANSPORTATION

Federal Transit Administration

Joint Partnership Rail Grade Crossing Safety Project

AGENCY: Federal Transit Administration (FTA), DOT.

ACTION: Notice and solicitation of proposals.

SUMMARY: This Notice announces the solicitation of proposals for the deployment of innovative rail transit grade crossing and safety technology through the Federal Transit Administration's (FTA) Joint Partnership Program (JPP). As the interest in and demand for efficient rail transit operating in a shared corridor environment increases, the challenge to provide safe, and cost-effective service will continue to grow. FTA seeks to evaluate and deploy innovative technologies that will enhance the safe operation of rail transit in mixed traffic situations. This deployment will contribute towards the widespread introduction and adoption of innovation to solve grade crossing and other critical safety challenges affecting rail transit operations.

DATES: Proposals (6 copies) must be received by November 6, 2000.

ADDRESSES: Proposals shall be submitted to Elaine Dezenski, Office of Research, Demonstration and Innovation, Federal Transit Administration, 400 Seventh Street, SW, Room 9401, Washington, DC 20590 and shall reference Joint Partnership Rail Grade Crossing Safety Project.

FOR FURTHER INFORMATION CONTACT: Elaine Dezenski, Joint Partnership Program Manager at (202) 493-2633.

SUPPLEMENTARY INFORMATION: Section 5314(a) of Title 49, U.S.C., provides resources for research, development, or demonstration projects that will assist in the improvement of mass transportation service. FTA's National Planning and Research budget for fiscal year 2000 includes $400,000 for the deployment of rail grade crossing and safety technology. Note: FTA anticipates that additional funding will be made available in FY 2001 and 2002 to continue the support of projects in this area. Therefore, it is anticipated that this solicitation could support a multi-year project.

There are significant safety challenges facing a growing number of rail transit providers, in particular, rail transit providers that operate or anticipate operating services in shared rail corridors with railroads, or in mixed vehicular and pedestrian traffic. Advancements in grade crossing and safety technology are an important part of addressing safety concerns that arise when mixed modes of transportation are operating in the same environment.

There are over 190 projects authorized for Section 5309 New Starts funding in TEA-21 that are undertaking the FTA New Starts planning and project development process. Many of the project sponsors have identified safety concerns in locations where there is a proposed rail grade crossing, a shared corridor grade crossing, mixed traffic rail operations, and pedestrian crossings. Project sponsors, together with suppliers of technology, are encouraged to participate in this solicitation to assess potential technological solutions to safety concerns early in the project development process. Under the JPP, authorized pursuant to 49, U.S.C., 5312(d), the Secretary may enter into grants, contracts, cooperative agreements and “other agreements” with competitively selected consortia to promote early deployment of innovation in mass transportation services, management, operational practices, or technology. Accordingly, FTA's JPP is seeking innovative partnerships with eligible consortia to share in the costs, risks and rewards of deploying new rail grade crossing and safety technologies.

Table of Contents

I. Background

II. Program Vision, Goals and Objectives

III. Joint Partnership Guidelines

IV. Technology Considerations

V. Submission of Candidate Proposals

VI. Evaluations and Selection

I. Background

Since 1994, DOT has initiated a number of cross-modal efforts to improve grade crossing safety, including the development of ITS technologies at highway-rail intersections, and the demonstration of new signs, signals, and train control systems. In addition, FTA has also implemented grade crossing safety activities that support the goals and objectives identified in the FTA Research & Technology 5-Year Plan (October 1999). For further information on the Plan, see section II (b) below or www.fta.dot.gov/research. For additional information on FTA grade crossing projects, see Transit Cooperative Research Report no.17, Integration of Light Rail Transit into City Streets, 1996, and the National Cooperative Highway Research Programs Synthesis 271, Traffic Signal Operations Near Highway-Rail Grade Crossings, 1999 available from Transportation Research Board's web site www.national-academies.org/trb/bookstore.

Operating light rail and commuter rail transit presents unique safety challenges at highway and pedestrian intersections. One of the major challenges facing rail transit operators is to effectively address the problem of operating trains at grade, across intersections, where they may conflict with motor vehicles and pedestrians. Rail transit systems across the United States have experienced grade crossing accidents. While there is no universal solution to the problem, transit operators across the nation are either conducting or evaluating various means to effectively provide additional warnings or ways to prevent/deter motorists and pedestrians from making illegal maneuvers at grade crossings. The problem of motorists and pedestrians disregarding the traditional warning devices at crossings is particularly pronounced. For example, safety concerns arise when rail transit operates in a shared corridor with freight, or commuter service, or if the alignment includes parallel streets along the right-of-way from which right and left turns can be made across the tracks. Limited information as well as lack of real-time information on the operational status of grade crossing equipment is also an area of concern. Dispatch centers often lack real-time information on whether grade crossing equipment is functioning properly. Improved control center diagnostics, Intelligent Transportation Systems (ITS) and other applications that contribute to more viable command and control operations may be considered. The demonstration of new and innovative technology to alleviate such safety hazards is critical to ensuring safe, reliable, shared corridor operations.

II. Program Vision, Goals and Objectives

The Joint Partnership Rail Grade Crossing Safety Project will support the goals and objectives of the One DOT Highway Rail Grade Crossing Team (Team). The Team promotes cross-modal strategies and research activities to improve grade crossing safety along the nation's surface transportation infrastructure. Further, the project will support the U.S. Department of Transportation's number one strategic goal—to promote the public health and safety by working toward the elimination of transportation related deaths, injuries, property damage, and the improvement of personal security and property protection. The project will also support FTA's Strategic Goals and the FTA Research & Technology 5-Year Plan Program areas, as described in paragraphs (a) and (b) below.

(a) Related FTA Strategic Goals:

(1) Safety and Security—Promote the public health and safety by working toward the elimination of transit-related deaths, injuries, property damage, and the improvement of personal security and property protection.

(2) Mobility and Accessibility—Shape America's future by ensuring a transportation system that is accessible, integrated, efficient, and offers a flexibility of choice.

(3) Economic Growth and Trade—Advance America's economic growth and competitiveness domestically and internationally through efficient and flexible transportation.

(4) Human and Natural Environment—Protect and enhance communities and the natural environment affected by transit.

(b) Related FTA Research & Technology 5-Year Plan Program Areas:

(1) Safety & Security

Railroad Grade Crossing Safety

Information Security

(2) Equipment & Infrastructure

Rail Equipment and Systems

Communication-Based Train Control Systems

(3) Fleet Operations

Transit Capacity and Quality of Service

Transit Intelligent Transportation Systems

Mixed Rail Corridor Operations

III. Joint Partnership Guidelines

1. General Authority

Section 5312(d) of Title 49, U.S.C., authorizes the Secretary, under terms and conditions he prescribes, to enter into grants, contracts, cooperative agreements, and other agreements with consortia, to promote the early deployment of innovation in mass transportation services, management, operational practices, or technology that has broad applicability. This program is intended to be carried out in consultation with the transit industry by merit-based, competitively selected consortia that will share in the costs, risks, and rewards of early deployment of innovation.

2. Joint Partnership Agreements

Historically, FTA has supported research, development, demonstration, and deployment of innovation through the use of grants and cooperative agreements. Since 1994, FTA has acted as agent for the Defense Advanced Research Projects Agency (DARPA), which pioneered use of “other agreements” as an alternative to grants and cooperative agreements. These “other agreements” have proven successful in situations where the other funding instruments did not provide sufficient flexibility to induce non-government, particularly commercial, entities to participate in partnership with the Government. FTA sought and received “other agreement” authority in TEA-21. In selecting from among grants, cooperative agreements and “other agreements,” FTA will select the instrument best suited to the goals and objectives of each Joint Partnership Project. Generally speaking, an “other agreement” will be used in those instances where one of the more traditional instruments is determined, in consultation with the potential partners, to be inappropriate for one or more reasons.

3. Definition of Consortium

An eligible consortium:

(a) Means 1 or more public or private organizations located in the United States that provide mass transportation service to the public, and 1 or more businesses, including small- and medium-sized businesses, incorporated in a State, offering goods or services, or willing to offer goods and services, to mass transportation operators; and

(b) May include, as additional members, public or private research organizations located in the United States or State or local governmental authorities.

4. Financing

(a) Cost Sharing. Section 5312(d)(3) provides that a consortium assisted under the JPP contribute not less than 50 percent of the costs of any joint partnership project. FTA participation is limited to $400,000 for this solicitation. However, as stated above, FTA anticipates receiving additional funding to support related programs in FY 2001 and 2002. Applicants may propose multi-year tasks, if applicable to their proposal. Any business, organization, person, or governmental body may contribute funds to a JPP. FTA will apply the same non-Federal share rules to the JPP applications as apply to other FTA assistance programs. Cash or in-kind contributions applicable to grants and cooperative agreements with state and local governments, non-profit organizations or educational institutions, are acceptable. See 49 CFR Parts 18 and 19.

IV. Technology Considerations

FTA has evaluated a number of grade crossing safety applications for light rail and commuter rail transit operations. The listing below gives a few examples of the types of projects that have been funded in the last five years. Applicants may expand on lessons learned from these efforts or evaluate and deploy new grade crossing safety innovations based on state-of-the-art technologies.

Project No./Title | Abstract | Cost | Grantee and/or Consultants
MA-26-7057, Advanced Signal & Gate Technologies for MBTA Grade Crossings | Evaluate engineering improvements at commuter rail grade crossing with severe traffic problems and safety concerns | $380,000 | Massachusetts Bay Area Transportation Authority.
MA-03-7001, Four Quadrant Gated Grade Crossing | Evaluate design and operational standards/safety enhancements for commuter rail grade crossings. Demonstrate use of four quadrant gates with vehicle detection system at commuter rail grade crossing | 300,000 | Massachusetts Bay Area Transportation Authority.
MD-26-7024, Second Train Coming Warning Sign | Develop & evaluate use of active 2nd train warning sign for motorists at light rail grade crossings. The warning sign will alert motorists who are stopped at the crossing that a second high-speed train is coming from the opposite direction | 200,000 | Mass Transportation Administration Baltimore, MD.
CA-26-7017, Second Train Coming Warning Sign | Develop & evaluate use of graphic 2nd train sign for pedestrians at rail grade crossings. This project is in conjunction with MD-26-7024, and will include field study of an active second train warning sign | 200,000 | Los Angeles County Metropolitan Transportation Authority.
CA-26-7010, Assessment of Left Turn Crossing Gates for LRT | Field test and technical studies to investigate left turn railroad crossing gated for light rail transit (LRT) grade crossings. Field test to include evaluation of track area vehicle detection systems | 200,000 | Los Angeles County Metropolitan Transportation Authority.

V. Submission of Candidate Proposals

FTA is soliciting proposals for Joint Partnership Rail Grade Crossing Projects from eligible consortia. The proposal should outline the following in abbreviated form:

(1) Overview of the proposed effort, or proposed concept;

(2) List of partners, including one or more developers of technology and one or more transit operators;

(3) State of the technology;

(4) Work to be performed,

(5) Physical and/or operating characteristics of the innovation;

(6) Development of prototype equipment/process or pilot program;

(7) Schedule;

(8) Total project cost, including source of matching funds (private, non-profit, commercial, Title 49, U.S.C., discretionary or formula, Congestion Management Air Quality (CMAQ) Intelligent Transportation Systems (ITS), etc.);

(9) Assessment plan; and

(10) Relationship to FTA Research & Technology Five-Year Plan Program areas listed in paragraph II (b) of this Notice.

VI. Evaluation and Selection

In evaluating the proposals received, FTA will consider the following factors:

(1) State of technology and applicability to solving mixed-use operational challenges;

(2) Management capability and technical expertise of consortium;

(3) Proposed cost share;

(4) Cost and benefits (payback) of proposed work;

(5) Time to complete test and evaluation of the concept or technology;

(6) Realistic probability of wide spread application of technology; and

(7) Relative technical and financial risk.

As previously mentioned, proposals (6 copies) must be received by 45 days from the date of this notice. Proposals should be sent to the name and address in the “Addresses” section of this Notice.

Issued on: September 14, 2000.
Michael Winter,
Associate Administrator for Budget and Policy

[FR Doc. 00-24174 Filed 9-19-00; 8:45 am]

BILLING CODE 4910-57-P